Proclamation 8499 of April 16, 2010

National Crime Victims’ Rights Week, 2010

By the President of the United States of America

A Proclamation

Millions of Americans fall prey to criminal behavior every year, and still more suffer the physical, emotional, and psychological pain of past offenses. This week, we renew our commitment to supporting crime victims and preventing crimes that threaten our families and our communities.

Our Nation’s prosperity depends on the safety and security of all Americans. Though crime rates have declined in recent years, crime and its devastating effects still require our constant vigilance and attention. To help protect our citizens and make our neighborhoods safer, last year’s landmark American Recovery and Reinvestment Act included funding for crime prevention programs, criminal justice initiatives, and services for victims. Dedicated individuals, organizations, and agencies across our Nation are also aiding this effort, caring for the survivors of crime by providing shelter, counseling, and other types of assistance.

While any person or community may experience crime, some groups are disproportionately affected. Nearly half of all murder victims are African Americans, and Native American women suffer one of the highest rates of sexual assault of any ethnic group. These disparities are an affront to all Americans, and we must address them with innovative policing strategies and greater community involvement.

Beyond violent crime and property crime, we must also fight white-collar crime and protect its victims, including those recovering from financial fraud. Through my Administration’s Financial Fraud Enforcement Task Force and other initiatives, we are cracking down on mortgage fraud and predatory lending practices. Programs for victims of these crimes can help restore economic security after a family loses its life savings or home due to cruel deception.

During National Crime Victims’ Rights Week, we reaffirm our support for victims and survivors of crime, and we recommit to strengthening the Federal, State, and local partnerships that are reducing criminal activity. Together, we will build a safer, more secure America.

NOW, THEREFORE, I, BARACK OBAMA, President of the United States of America, by virtue of the authority vested in me by the Constitution and the laws of the United States, do hereby proclaim April 18 through April 24, 2010, as National Crime Victims’ Rights Week. I call upon all Americans to observe this week with events and activities that raise awareness of victims’ rights, and by volunteering to serve their fellow citizens.

IN WITNESS WHEREOF, I have hereunto set my hand this sixteenth day of April, in the year of our Lord two thousand ten, and of the Independence of the United States of America the two hundred and thirty-fourth.

[FR Doc. 2010-9414

Filed 4-20-10; 11:15 am]

Billing code 3195-W0-P